FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 8, 2019.

A. Federal Reserve Bank of Chicago (Colette A. Fried, Assistant Vice President) 230 South LaSalle Street, Chicago, Illinois 60690-1414:

1. Gary F. Stewart and Carrie L. Irish, as a group acting in concert to be added to the Hodgson family control group approved on October 10, 2013; to retain voting shares of Charlevoix First Corporation and thereby indirectly retain shares of Charlevoix State Bank, both of Charlevoix, Michigan.

B. Federal Reserve Bank of Kansas City (Dennis Denney, Assistant Vice President) 1 Memorial Drive, Kansas City, Missouri 64198-0001:

1. The Lisa K. Haines Financial Services Trust and the Julee S. Thummel Financial Services Trust, both of Horseshoe Bay, Texas; to retain voting shares of Bank7 Corp and thereby indirectly retain shares of Bank 7, both of Oklahoma City, Oklahoma.

Board of Governors of the Federal Reserve System, December 18, 2018.
Yao-Chin Chao,
Assistant Secretary of the Board.

[FR Doc. 2018-27667 Filed 12-20-18; 8:45 am]

BILLING CODE P